DEPARTMENT OF EDUCATION

Applications for New Awards; School Leadership Program (CFDA Number 84.363A); Correction

AGENCY: Office of Innovation and Improvement, Department of Education.

ACTION: Notice; correction.

SUMMARY: On May 8, 2013, we published in the Federal Register (78 FR 26758) a notice inviting applications for new awards under the School Leadership Program. This notice corrects a typographical error in the applicant eligibility information for partnership applicants. Eligible applicants are high-need LEAs; consortia of high-need LEAs; and partnerships of high-need LEAs and either nonprofit organizations (which may be community- or faith-based organizations), or institutions of higher education.

DATES: Effective June 4, 2013.

SUPPLEMENTARY INFORMATION:

Correction

In the Federal Register of May 8, 2013, on page 26760, (78 FR 26760), in the middle column under the heading III. Eligibility Information, we correct the first paragraph to read:

“1. Eligible Applicants: High-need LEAs; consortia of high-need LEAs; and partnerships of high-need LEAs, nonprofit organizations (which may be community- or faith-based organizations), or institutions of higher education.”

Program Authority: 20 U.S.C. 6651(b).

FOR FURTHER INFORMATION CONTACT: Beatriz Ceja, U.S. Department of Education, 400 Maryland Avenue SW., Room 4C107, Washington, DC 20202-5930. Telephone: (202) 205-5009. FAX: (202) 401-8466 or by email: Schoolleadershipmatters@ed.gov.

If you use a telecommunications device for the deaf(TDD) or a text telephone (TTY), call the Federal Relay Service, toll free, at 1-800-877-8339.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 29, 2013.
James H. Shelton, III,
Assistant Deputy Secretary for Innovation and Improvement.

[FR Doc. 2013-13192 Filed 6-3-13; 8:45 am]

BILLING CODE 4000-01-P